DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Amendment 80 Economic Data Report (EDR) for the Catcher/Processor non-AFA Trawl Sector.

OMB Control Number: 0648-0564.

Form Number(s): None.

Type of Request: Regular submission (renewal of a currently approved information collection).

Number of Respondents: 28.

Average Hours per Response: 20.

Burden Hours: 560.

Needs and Uses: This notice is for renewal of a currently approved information collection. NMFS Alaska Region manages the groundfish fisheries in the Exclusive Economic Zone under the Fishery Management Plan for Groundfish of the Bering Sea and Aleutian Islands Management Area (FMP). The North Pacific Fishery Management Council (Council) prepared the FMP under the authority of the Magnuson-Stevens Fishery Conservation and Management Act, 16 U.S.C. 1801 et seq. (MSA). Amendment 80 to the FMP primarily allocated several Bering Sea and Aleutian Islands Management Area non-pollock trawl groundfish fisheries among fishing sectors, and facilitated the formation of harvesting cooperatives in the catcher/processor sector of the non-American Fisheries Act (non-AFA) Trawl Catcher/processor Cooperative Program (Program). The Program established a limited access privilege program for the non-AFA trawl catcher/processor sector.

The Amendment 80 economic data report (EDR) collects cost, revenue, ownership, and employment data on an annual basis and provides information unavailable through other means to review the Program. The purpose of the EDR is to understand the economic effects of the Amendment 80 program on vessels or entities regulated by the Program, and to inform future management actions. Data collected through the EDR is mandatory for all Amendment 80 quota share (QS) holders.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 20, 2010.
Gwellnar Banks,
Management Analyst, Office of the Chief Information Officer.

[FR Doc. 2010-21153 Filed 8-24-10; 8:45 am]

BILLING CODE 3510-22-P